DEPARTMENT OF ENERGY

Federal Energy Regulatory Commission

[Docket No. PR00-9-000]

PG&E Texas Pipeline L.P.; Notice of Settlement Conference

August 31, 2000.

Take notice that a settlement conference will be held on Thursday, September 7, 2000, at 10 a.m., in a room to be designated at the offices of the Federal Energy Regulatory Commission, 888 First Street, NE., Washington, DC 20426.

All interested parties and Staff are permitted to attend.

Linwood A. Watson, Jr.,
Acting Secretary.

[FR Doc. 00-22938 Filed 9-6-00; 8:45 am]

BILLING CODE 6717-01-M